DEPARTMENT OF THE INTERIOR

Bureau of Land Management

[CO-100-07-1610-DQ]

Notice of Intent to Prepare Additional Air Quality Analysis Information for the Little Snake Draft Resource Management Plan and Environmental Impact Statement (Draft EIS)

AGENCY: Little Snake Field Office, Bureau of Land Management, Interior.

ACTION: Notice of Intent.

SUMMARY: Pursuant to the National Environmental Policy Act of 1969, as amended (NEPA, 42 U.S.C. 4321 et seq.), the Bureau of Land Management (BLM), Little Snake Field Office, Colorado, announces its intent to prepare additional air quality information. On February 9, 2007, the BLM published a Notice of Availability in the Federal Register (Vol. 72, No. 27, pages 6284-6285) announcing the release of the Draft EIS for public review and comment. The 90-day comment period closed May 16, 2007. During the public comment period, the Environmental Protection Agency, in consultation with BLM, identified areas where additional air quality information would improve the existing analysis in the Draft EIS. As a result, the BLM is preparing an additional air quality analysis. When the additional air quality analysis has been completed, the BLM will present the information for public review and comment. At that time, BLM will only accept comments from the public pertaining to the new air quality information.

DATES: The BLM anticipates making the additional air quality analysis information available to the public for a 45-day comment period around May 2008. The BLM will publish a Notice of Availability in the Federal Register when the additional air quality analysis is ready for release for public comment. Announcements will also be made through local media by news releases and posted information on the Little Snake Resource Management Plan Revision Web site: http://www.blm.gov/co/st/en/fo/lsfo/plans/rmp_revision.html.

FOR FURTHER INFORMATION CONTACT: Jeremy Casterson, Project Manager, Little Snake Field Office, 455 Emerson St., Craig, Colorado 81625, or by telephone at (970) 826-5071.

SUPPLEMENTARY INFORMATION: Public comments submitted on the additional air quality analysis for the Draft EIS, including names, e-mail addresses, and street addresses of the respondents, will be available for public review and disclosure at the above address during regular office business hours (7:45 a.m. to 4:30 p.m.), Monday through Friday, except holidays. Before including your address, phone number, e-mail address, or other personal identifying information in your comment, you should be aware that your entire comment—including your personal identifying information—may be made publicly available at any time. While you can ask us in your comment to withhold your personal identifying information from public review, we cannot guarantee that we will be able to do so.

Dated: December 12, 2007.
Sally Wisely,
State Director.

[FR Doc. E7-24532 Filed 12-18-07; 8:45 am]

BILLING CODE 4310-$$-P